LEGAL SERVICES CORPORATION

Notice of Availability of 2003 Competitive Grant Funds for Service Area OH-19 in Ohio

AGENCY: Legal Services Corporation.

ACTION: Solicitation of Proposals for the Provision of Civil Legal Services for Basic Field-General service area OH-19 in Ohio.

SUMMARY: The Legal Services Corporation (LSC) is the national organization charged with administering federal funds provided for civil legal services to the poor. Congress has adopted legislation requiring LSC to utilize a system of competitive bidding for the award of grants and contracts.

LSC hereby announces that it is reopening the 2003 grants competition for service area OH-19 in Ohio and is soliciting grant proposals from interested parties who are qualified to provide effective, efficient and high quality civil legal services to the eligible client population. The exact amount of congressionally appropriated funds and the date and terms of their availability for calendar year 2003 are not known, although it is anticipated that the funding amount will be similar to calendar year 2002 funding.

DATES: Request for Proposals (RFP) are available from http://www.ain.lsc.gov. A Notice of Intent to Compete is due by 5:00 p.m. ET, February 14, 2003. Grant proposals must be received at LSC by 5:00 p.m. ET, March 14, 2003.

ADDRESSES: Legal Services Corporation—Competitive Grants, 750 First Street NE., 10th Floor, Washington, DC 20002-4250.

FOR FURTHER INFORMATION CONTACT: Mounia Bensalah, Grants Coordinator, Office of Program Performance, (202) 336-8914.

SUPPLEMENTARY INFORMATION: LSC is seeking proposals from non-profit organizations that have as a purpose the furnishing of legal assistance to eligible clients, and from private attorneys, groups of private attorneys or law firms, state or local governments, and substate regional planning and coordination agencies which are composed of substate areas and whose governing boards are controlled by locally elected officials.

The RFP, containing the grant application, guidelines, proposal content requirements, specific selection criteria, and the description of service area OH-19 is available at http://www.ain.lsc.gov.

Issue Dated: January 8, 2003.
Michael A. Genz,
Director, Office of Program Performance.

[FR Doc. 03-649 Filed 1-10-03; 8:45 am]

BILLING CODE 7050-01-P